SMALL BUSINESS ADMINISTRATION

[Disaster Declaration # 15175 and # 15176; ARKANSAS Disaster Number AR-00094]

Presidential Declaration Amendment of a Major Disaster for the State of ARKANSAS

AGENCY: U.S. Small Business Administration.

ACTION: Amendment 1.

SUMMARY: This is an amendment of the Presidential declaration of a major disaster for the State of ARKANSAS (FEMA-4318-DR), dated 06/15/2017.

Incident: Severe Storms, Tornadoes, Straight-line Winds, and Flooding.

Incident Period: 04/26/2017 through 05/19/2017.

DATES: Effective 06/28/2017.

Physical Loan Application Deadline Date: 08/14/2017.

Eidl Loan Application Deadline Date: 03/15/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the Presidential disaster declaration for the State of ARKANSAS, dated 06/15/2017 is hereby amended to include the following areas as adversely affected by the disaster:

Primary Counties: (Physical Damage and Economic Injury Loans): Prairie, White, Woodruff.

Contiguous Counties: (Economic Injury Loans Only): Arkansas, Monroe, Saint Francis.

All other information in the original declaration remains unchanged.

(Catalog of Federal Domestic Assistance Number 59008)

James E. Rivera,
Associate Administrator for Disaster Assistance.

[FR Doc. 2017-14030 Filed 7-3-17; 8:45 am]

BILLING CODE 8025-01-P